NATIONAL TRANSPORTATION SAFETY BOARD

Sunshine Act Meeting

Time and Date: 9:30 a.m., Tuesday, June 10, 2008.

Place: NTSB Conference Center, 429 L'Enfant Plaza, SW., Washington, DC 20594.

Status: The three items are open to the public.

Matters To Be Considered:

8015 Aircraft Accident Report—Runway Overrun During Landing, Pinnacle Airlines Flight 4712, Bombardier/Canadair Regional Jet CL600-2B19, N8905F, Traverse City, Michigan, April 12, 2007.

8013 Safety Recommendation Letter to the Federal Aviation Administration regarding Aviation Fatigue Management Systems.

8014 Highway Accident Brief—Commuter Train Highway— Railroad Grade Crossing Accident in Elmwood Park, Illinois, November 23, 2005 (HWY-06-MH-007).

News Media Contact: Telephone: (202) 314-6100.

Individuals requesting specific accommodations should contact Carol Bowling at (202) 314-6238 by Friday, June 6, 2008.

The public may view the meeting via a live or archived webcast by accessing a link under “News & Events” on the NTSB home page at http://www.ntsb.gov.

For More Information Contact: Vicky D'Onofrio, (202) 314-6410.

Dated: May 30, 2008.
Vicky D'Onofrio,
Federal Register Liaison Officer.

[FR Doc. E8-12508 Filed 6-4-08; 8:45 am]

BILLING CODE 7533-01-M